DEPARTMENT OF AGRICULTURE

Animal and Plant Health Inspection Service

[Docket No. APHIS-2020-0031]

Notice of Request for Reinstatement of an Information Collection; Imported Seeds and Screenings

ACTION: Reinstatement of an information collection; comment request.

SUMMARY: In accordance with the Paperwork Reduction Act of 1995, this notice announces the Animal and Plant Health Inspection Service's intention to request the reinstatement of an information collection associated with the regulations for the importation of seeds and screenings from Canada into the United States.

DATES: We will consider all comments that we receive on or before July 14, 2020.

ADDRESSES: You may submit comments by either of the following methods:

• Federal eRulemaking Portal: Go to http://www.regulations.gov/#!docketDetail;D=APHIS-2020-0031.

• Postal Mail/Commercial Delivery: Send your comment to Docket No. APHIS-2020-0031, Regulatory Analysis and Development, PPD, APHIS, Station 3A-03.8, 4700 River Road, Unit 118, Riverdale, MD 20737-1238.

Supporting documents and any comments we receive on this docket may be viewed at http://www.regulations.gov/#!docketDetail;D=APHIS-2020-0031 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the regulations related to the importation of seeds and screenings, contact Ms. Lydia Colón, Senior Regulatory Policy Specialist, PHP, PPQ, APHIS, 4700 River Road, Unit 133, Riverdale, MD 20737; (301) 851-2302. For further information on the information collection process, contact Mr. Joseph Moxey, APHIS Information Collection Coordinator, at (301) 851-2483.

SUPPLEMENTARY INFORMATION:

Title: Imported Seeds and Screenings.

OMB Control Number: 0579-0124.

Type of Request: Reinstatement of an information collection.

Abstract: Under the authority of the Federal Seed Act (FSA) of 1939, as amended (7 U.S.C. 1551 et seq.), the U.S. Department of Agriculture (USDA) regulates the importation and interstate movement of certain agricultural and vegetable seeds and screenings. Title III of the FSA, “Foreign Commerce,” requires shipments of imported agricultural and vegetable seeds to be labeled correctly and to be tested for the presence of the seeds of certain noxious weeds as a condition of entry into the United States. The Animal and Plant Health Inspection Service's (APHIS) regulations implementing the provisions of Title III of the FSA are found in 7 CFR part 361.

The regulations in 7 CFR part 361, “Importation of Seed and Screenings under the Federal Seed Act” (§§ 361.1 to 361.10, referred to below as the regulations), prohibit or restrict the importation of agricultural seed, vegetable seed, and screenings into the United States. Section 361.7 provides the regulations for special provisions for Canadian-origin seed and screenings, and § 361.8 provides the regulations for the cleaning of imported seed and processing of certain Canadian-origin screenings.

APHIS' Plant Protection and Quarantine (PPQ) program operates a seed analysis program with Canada that allows U.S. companies that import seed for cleaning or processing to enter into compliance agreements with APHIS. This program eliminates the need for sampling shipments of Canadian-origin seed at the U.S.-Canadian border and allows certain seed importers to clean the seed without direct supervision of an APHIS inspector. The program provides a safe and expedited process for the importation of seed and screenings into the United States without posing a plant pest or noxious weed risk.

The seed analysis program involves the use of information collection activities, including a compliance agreement, seed analysis certificate, declaration for importation, container labeling, notification of seed location, a seed return request, seed identity maintenance, documentation for U.S. origin exported seed returned to the United States, written appeal for cancellation of a compliance agreement and request for a hearing, and associated recordkeeping.

We are asking the Office of Management and Budget (OMB) to approve our use of these information collection activities, as described, for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.35 hours per response.

Respondents: Government food inspection agency officials; and commercial importers, seed cleaning/processing facility personnel, and seed laboratory personnel.

Estimated annual number of respondents: 1,163.

Estimated annual number of responses per respondent: 23.

Estimated annual number of responses: 27,038.

Estimated total annual burden on respondents: 9,629 hours. (Due to averaging, the total annual burden hours may not equal the product of the annual number of responses multiplied by the reporting burden per response.)

All responses to this notice will be summarized and included in the request for OMB approval. All comments will also become a matter of public record.

Done in Washington, DC, this 11th day of May 2020.
Michael Watson,
Acting Administrator, Animal and Plant Health Inspection Service.

[FR Doc. 2020-10403 Filed 5-14-20; 8:45 am]

BILLING CODE 3410-34-P